ENVIRONMENTAL PROTECTION AGENCY

40 CFR Part 710

[EPA-HQ-OPPT-2005-0059; FRL-7752-8]

RIN 2070-AC61

TSCA Inventory Update Reporting Rule; Electronic Reporting

AGENCY: Environmental Protection Agency (EPA).

ACTION: Direct final rule.

SUMMARY: EPA is taking direct final action to amend the Toxic Substances Control Act (TSCA) section 8(a) Inventory Update Reporting (IUR) regulations to allow the electronic submission of information and to make several minor corrections. For the first time, in 2006, reporters of IUR data will be able to use the Internet, through EPA's Central Data Exchange (CDX), to submit information on their chemicals to EPA. In addition, EPA will continue to allow IUR submissions either on CD ROM or on paper. EPA is also correcting two paragraph cross-references and a section heading. Additionally, EPA is clarifying requirements for the reporting of company identification information.

DATES: This direct final rule is effective on November 6, 2006 without further notice, unless EPA receives adverse comment by October 6, 2006. If, however, EPA receives adverse comment, EPA will publish aFederal Register document to withdraw the portion of the rule that relates to the specific comment that was made before the effective date of the direct final rule. The remainder of the rule will become effective on November 6, 2006.

ADDRESSES: Submit your comments, identified by docket identification (ID) number EPA-HQ-OPPT-2005-0059, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East, Rm. 6428, 1201 Constitution Ave., NW., Washington, DC. Attention: Docket ID number EPA-HQ-OPPT-2005-0059. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2005-0059. EPA's policy is that all comments received will be included in the public docket without change and may be made available in the on-line docket at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the docket index at http://www.regulations.gov. Although listed in the index, some information is not publicly available, e.g., CBI or other information whose disclosure is restricted by statute. Certain other material, such as copyrighted material, is not placed on the Internet and will be publicly available only in hard copy form. Publicly available docket materials are available either electronically in the on-line docket at http://www.regulations.gov or in hard copy at the OPPT Docket, EPA Docket Center, EPA West, Rm. B102, 1301 Constitution Ave., NW., Washington, DC. The Public Reading Room is open from 8:30 a.m. to 4:30 p.m., Monday through Friday, excluding legal holidays. The EPA Docket Center Reading Room telephone number is (202) 566-1744, and the telephone number for the OPPT Docket, which is located in the EPA Docket Center, is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Susan Sharkey, Project Manager, Economics, Exposure and Technology Division (7406M), Office of Pollution Prevention and Toxics, Environmental Protection Agency, 1200 Pennsylvania Ave., NW., Washington, DC 20460-0001; telephone number: (202) 564-8789; e-mail address: sharkey.susan@epa.gov.

SUPPLEMENTARY INFORMATION:

I. General Information

A. Does this Action Apply to Me?

You may be affected by this action if you manufacture (defined by statute at 15 U.S.C. 2602(7) to include import) chemical substances, including inorganic chemical substances, subject to reporting under the Inventory Update Reporting (IUR) regulations at 40 CFR part 710. Any use of the term “manufacture” in this document will encompass import, unless otherwise stated.

Potentially affected entities may include, but are not limited to: Chemical manufacturers and importers subject to IUR reporting, including chemical manufacturers and importers of inorganic chemical substances (NAICS codes 325, 32411).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions at 40 CFR 710.48. If you have any questions regarding the applicability of this action to a particular entity, consult the technical contact person listed under FOR FURTHER INFORMATION CONTACT.

B. What Should I Consider as I Prepare My Comments for EPA?

1. Submitting CBI. Do not submit CBI to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the rulemaking by docket ID number and other identifying information (subject heading, Federal Register date and page number).

ii. Follow directions. The Agency may ask you to respond to specific questions or organize comments by referencing a Code of Federal Regulations (CFR) part or section number.

iii. Explain why you agree or disagree; suggest alternatives, and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background

A. What is the Agency's Authority for Taking this Action?

EPA is required under TSCA section 8(b), 15 U.S.C. 2607(b), to compile and keep current an inventory of chemical substances manufactured or processed in the United States. This inventory is known as the TSCA Chemical Substances Inventory (the TSCA Inventory). In 1977, EPA promulgated a rule (42 FR 64572, December 23, 1977) under TSCA section 8(a), 15 U.S.C. 2607(a), to compile an inventory of chemical substances in commerce at that time. In 1986, EPA promulgated the initial IUR rule under TSCA section 8(a) at 40 CFR part 710 (51 FR 21438, June 12, 1986) to facilitate the periodic updating of the TSCA Inventory and to support activities associated with the implementation of TSCA. In 2003, EPA promulgated extensive amendments to the IUR rule (68 FR 848, January 7, 2003) (FRL-6767-4) (2003 Amendments) to collect manufacturing, processing, and use exposure-related information, and to make certain other changes. Minor corrections to the IUR rule were made in July of 2004 (69 FR 40787, July 7, 2004) (FRL-7332-3), and additional revisions to the IUR rule were made on December 19, 2005 (70 FR 75059) (FRL-7743-9).

TSCA section 8(a)(1) authorizes the EPA Administrator to promulgate rules under which manufacturers and processors of chemical substances and mixtures (referred to hereinafter as chemical substances) must maintain such records and submit such information as the Administrator may reasonably require. TSCA section 8(a) generally excludes small manufacturers and processors of chemical substances from the reporting requirements established in TSCA section 8(a). However, EPA is authorized by TSCA section 8(a)(3) to require TSCA section 8(a) reporting from small manufacturers and processors with respect to any chemical substance that is the subject of a rule proposed or promulgated under TSCA section 4, 5(b)(4), or 6, or that is the subject of an order under TSCA section 5(e), or that is the subject of relief that has been granted pursuant to a civil action under TSCA section 5 or 7. Pursuant to TSCA section 8(a)(3)(B), the standard for determining whether an entity qualifies as a small manufacturer for purposes of 40 CFR part 710 generally is defined in 40 CFR 704.3. Processors are not currently subject to the regulations at 40 CFR part 710.

B. What is the Inventory Update Reporting (IUR) Regulation?

The data reported under the IUR rule are used to update the information maintained on the TSCA Inventory. EPA uses the TSCA Inventory and data reported under the IUR rule to support many TSCA-related activities and to provide overall support for a number of EPA and other federal health, safety, and environmental protection activities. The IUR rule, as amended by the 2003 Amendments and subsequent revisions, requires U.S. manufacturers (including importers) of chemicals listed on the TSCA Inventory to report to EPA every 5 years the identity of chemical substances manufactured for a commercial purpose during the reporting year in quantities of 25,000 pounds or more at any single site they own or control. The IUR generally excludes several categories of substances from its reporting requirements, i.e., polymers, microorganisms, naturally occurring chemical substances, and certain natural gas substances. Sites are required to report information such as company name, site location and other identifying information, identity and production volume of the reportable chemical substance, manufacturing exposure-related information associated with each reportable chemical substance, including the physical form and maximum concentration of the chemical substance and the number of potentially exposed workers.

Manufacturers (including importers) of larger volume chemicals (i.e., 300,000 pounds or more manufactured during the reporting year at any site) are additionally required to report certain processing and use information (40 CFR 710.52(c)(4)). This information includes process or use category, NAICS code, industrial function category, percent production volume associated with each process or use category, number of use sites, number of potentially exposed workers, and consumer/commercial information such as use category, use in or on products intended for use by children, and maximum concentration. For the 2006 submission period, inorganic chemicals are partially exempt regardless of production volume (i.e., submitters do not report the processing and use information listed in 40 CFR 710.52(c)(4)). After the 2006 reporting period, the partial exemption for inorganic chemicals will no longer be applicable and submitters will report processing and use information on inorganic chemical substances manufactured (including imported) at a site in volumes of 300,000 pounds or more, unless partially exempted as described in Unit II.C. In addition, specifically listed petroleum process streams and other specifically listed chemical substances are partially exempt during the 2006 submission period as well as during subsequent submission periods.

C. What Action is the Agency Taking?

Through this action, EPA is amending the methods available for obtaining documents, including reporting instructions, and for submitting reports. Additionally, EPA is making several minor corrections, including clarifying requirements for the reporting of company identification information.

1. Methods to obtain reporting instructions and submit reports. Because IUR reporting occurs only once every 5 years, the methods used to make available or otherwise distribute reporting materials, and for submitting the required information to EPA, often change from one submission period to another. EPA is therefore providing instructions to obtain the most up-to-date information concerning IUR submissions.

For the 2006 submission period, EPA is allowing submissions, including those containing CBI, over the Internet using EPA's Central Data Exchange (CDX). Submitting IUR information through CDX is EPA's preferred submission method because this method enables EPA to notify the submitter that the Agency has received their submission, it reduces reporting errors, and it enables data to be available more quickly. Coupled with EPA's new reporting software, eIUR, the Agency believes electronic reporting will become the preferred method of reporting for industry as well as for EPA.

The reporting form, reporting software, instruction manual, and other guidance materials are available on EPA's website at www.epa.gov/oppt/iur or through EPA's hotline, and can be obtained as described in the regulatory text. EPA plans to continue to notify sites that submitted during the previous submission period of the advent of the next submission period. The notification will include information on how to obtain the documents described in this paragraph.

Although EPA prefers that submissions be made using CDX, the Agency will continue to accept submissions on CD ROM or in hard copy. Instructions for submitting IUR information in these formats are also included on the website and in the instructions manual.

2. Corrections. Section 710.52 describes the information to be reported by persons described in § 710.48. EPA is correcting two of the cross-references in this section. Section 710.57 describes recordkeeping requirements. EPA is correcting the title for this section. These changes are purely administrative, make the relevant regulatory provision internally consistent and correct, and do not have any substantive effect on any other part of the regulations at 40 CFR part 710.

a. Section 710.52(c)(4)(i)(F) states that:

[f]or each combination of industrial processing or use operation, NAICS code and industrial function category, the submitter must estimate the number of workers reasonably likely to be exposed to each reportable chemical substance. For each combination associated with each substance, the submitter must select from among the worker ranges listed in paragraph (c)(3)(vi) of this section and report the corresponding code (i.e., W1 though W8).

The reference to paragraph (c)(3)(vi) is incorrect as that paragraph does not contain worker ranges. Instead, the appropriate cross reference is to paragraph (c)(3)(v). As a result, EPA is correcting § 710.52(c)(4)(i)(F) by changing the cross-reference to the worker ranges from “paragraph (c)(3)(vi)” to “paragraph (c)(3)(v).”

b. Section 710.52(c)(4)(ii)(D) states that:

[w]here the reportable chemical substance is used in commercial or consumer products, the estimated typical maximum concentration, measured by weight, of the chemical substance in each commercial and consumer product category reported under paragraph (c)(4)(ii)(A) of this section. For each substance in each commercial and consumer product category reported under paragraph (c)(4)(ii)(A) of this section, submitters must select from among the ranges of concentrations listed in the table in paragraph (c)(3)(vii) of this section and report the corresponding code (i.e., M1 through M5).

The reference to paragraph (c)(3)(vii) is incorrect as that paragraph does not contain ranges of concentrations. Instead, the appropriate cross-reference is to paragraph (c)(3)(vi). As a result, EPA is correcting § 710.52(c)(4)(ii)(D) by changing the cross-reference to the ranges of concentrations from “paragraph (c)(3)(vii)” to “paragraph (c)(3)(vi).”

c. Section 710.57 is titled “Reporting requirements” and states that “[e]ach person who is subject to the reporting requirements of this subpart must retain records that document any information reported to EPA.” Because the subject of this section is recordkeeping requirements, EPA is correcting the section by changing the heading from “Reporting requirements” to “Recordkeeping requirements.”

3. Clarification. Section 710.52(c)(2)(i) states that:

[t]he name of a person who will serve as technical contact for the submitter company and who will be able to answer questions about the information submitted by the company to EPA, the parent company name and Dun and Bradstreet Number, the contact person's full mailing address, the contact person's telephone number, and the contact person's e-mail address must be reported for each site at which at least 25,000 lbs. (11,340 kg) of a reportable chemical substance is manufactured (including imported).

The use of the term “parent company” has created confusion, and therefore EPA is clarifying this requirement by changing the phrase “parent company” to “company.” Submitters are to report the company name associated with the manufacturing (including importing) site and do not need to identify a parent company, if any, that would be associated with the company that reports information under this rule.

III. Direct Final Rule Procedures

EPA is publishing this rule without prior proposal because the Agency views this as a noncontroversial amendment and anticipates no adverse comment. This final rule will be effective on November 6, 2006 without further notice unless the Agency receives adverse comment by October 6, 2006. If EPA receives adverse comment on one or more distinct amendments, paragraphs, or sections of this rulemaking, the Agency will publish a timely withdrawal in the Federal Register indicating which provisions will become effective and which provisions are being withdrawn due to adverse comment. Any distinct amendment, paragraph, or section of today's rulemaking for which the Agency does not receive adverse comment will become effective on November 6, 2006, notwithstanding any adverse comment on any other distinct amendment, paragraph, or section of today's rule. For any distinct amendment, paragraph, or section of today's rule that is withdrawn due to adverse comment, EPA will publish a notice of proposed rulemaking in a future edition of the Federal Register. The Agency will address the comments on any such distinct amendment, paragraph, or section as part of that proposed rulemaking.

IV. Materials in the Rulemaking Record

The public version of the official record for this rulemaking is contained in three separate dockets that can be accessed as described in theADDRESSES unit. Docket ID number EPA-HQ-OPPT-2005-0059 contains the rulemaking record. This record includes the documents located in the docket.

1. USEPA. “Instructions for Reporting for the 2006 Partial Updating of the TSCA Chemical Inventory Database,” Draft. May 2006.

2. USEPA. “News About: The 2006 IUR Rule...change for easier, more accurate filing,” November 2005.

V. Statutory and Executive Order Reviews

A. Executive Order 12866

This direct final rule implements one change and several minor corrections to 40 CFR part 710, resulting in a burden and cost reduction. Since this direct final rule does not impose any new requirements, it is not subject to review by the Office of Management and Budget (OMB) under Executive Order 12866, entitled Regulatory Planning and Review (58 FR 51735, October 4, 1993).

B. Paperwork Reduction Act

This direct final rule does not contain any information collections subject to OMB approval under the Paperwork Reduction Act (PRA), 44 U.S.C. 3501 et seq.

C. Regulatory Flexibility Act

Since this action makes one change, several minor corrections, and a clarification to 40 CFR part 710, resulting in a burden reduction, EPA certifies this action will not have a significant economic impact on a substantial number of small entities. There will be no adverse impact on small entities resulting from this action.

D. Unfunded Mandates Reform Act

This action does not impose any enforceable duty or contain any unfunded mandate as described under Title II of the Unfunded Mandates Reform Act of 1995 (UMRA) (Public Law 104-4).

E. Executive Order 3132

The Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This action does not alter the relationships or distribution of power and responsibilities established by Congress.

F. Executive Order 13175

The Agency has determined that this rule does not have any “tribal implications” as described in Executive Order 13175, entitledConsultation and Coordination with Indian Tribal Governments (65 FR 67249, November 6, 2000). Executive Order 13175, requires EPA to develop an accountable process to ensure “meaningful and timely input by tribal officials in the development of regulatory policies that have tribal implications.” This direct final rule will not have substantial direct effects on tribal governments, on the relationship between the Federal Government and Indian tribes, or on the distribution of power and responsibilities between the Federal Government and Indian tribes, as specified in Executive Order 13175. Thus, Executive Order 13175 does not apply to this rule.

G. Executive Order 13045

This action does not require OMB review or any other Agency action under Executive Order 13045, entitled Protection of Children from Environmental Health Risks and Safety Risks (62 FR 19885, April 23, 1997).

H. Executive Order 13211

Because this direct final rule is exempt from review under Executive Order 12866 due to its lack of significance, this direct final rule is not subject to Executive Order 13211, entitled Actions Concerning Regulations That Significantly Affect Energy Supply, Distribution, or Use (66 FR 28355, May 22, 2001).

I. National Technology Transfer Advancement Act

This action does not involve any technical standards that would require Agency consideration of voluntary consensus standards pursuant to section 12(d) of the National Technology Transfer and Advancement Act of 1995 (NTTAA), Public Law 104-113, section 12(d) (15 U.S.C. 272 note).

J. Congressional Review Act

The Congressional Review Act, 5 U.S.C. 801 et seq., as added by the Small Business Regulatory Enforcement Fairness Act of 1996, generally provides that before a rule may take effect, the Agency promulgating the rule must submit a rule report, which includes a copy of the rule, to each House of the Congress and the Comptroller General of the United States. EPA will submit a report containing this rule and other required information to the U.S. Senate, the U.S. House of Representatives and the Comptroller General of the United States prior to publication of the rule in theFederal Register. This rule is not a “major rule” as defined by 5 U.S.C. 804(2).

List of Subjects in 40 CFR Part 710

Environmental protection, Central Data Exchange, CDX, Chemicals, Electronic reporting, Hazardous materials, Reporting and recordkeeping requirements.

Dated: August 25, 2006.
James B. Gulliford,
Assistant Administrator, Office of Prevention, Pesticides and Toxic Substances.

Therefore, 40 CFR chapter I is amended as follows:

PART 710—[AMENDED]

1. The authority citation for part 710 continues to read as follows:

Authority: 15 U.S.C. 2607(a).

§ 710.52 [Amended]

2. Section 710.52 is amended as follows:

a. By revising the phrase “parent company” to read “company” in paragraph (c)(2)(i).

b. By revising the phrase “paragraph (c)(3)(vi)” to read “paragraph (c)(3)(v)” in paragraph (c)(4)(i)(F).

c. By revising the phrase “paragraph (c)(3)(vii)” to read “paragraph (c)(3)(vi)” in paragraph (c)(4)(ii)(D).

§ 710.57 [Amended]

3. Section 710.57 is amended by revising the section heading to read:

“§ 710.57 Recordkeeping requirements.”

4. Section 710.59 is revised to read as follows:

§ 710.59 Availability of reporting form and instructions.

(a) Use the proper EPA form. You must use the EPA form identified as “Form U” to submit written information in response to the requirements of this subpart. Instructions for obtaining copies of Form U are in paragraph (c) of this section.

(b) Follow the reporting instructions. You should follow the detailed instructions for completing and submitting an electronic or hard copy report. Instructions given in the EPA publication titled, “Instructions for Reporting for the 2006 Partial Updating of the TSCA Chemical Inventory Database,” are available as described in paragraph (c) of this section. EPA encourages reporting sites subject to this part to submit the required information to EPA electronically.

(c) Obtain the reporting package and copies of the form. You can obtain the reporting form or software, reporting instructions, and other associated documents as follows:

(1) By website. Go to the EPA Inventory Update Reporting Internet home page at http://www.epa.gov/oppt/iur and follow the appropriate links. EPA encourages reporting sites subject to this subpart to visit this home page.

(2) By phone. Call the EPA TSCA Hotline at (202) 554-1404.

(3) By e-mail. Send an e-mail request for this information to the EPA TSCA Hotline at TSCA-Hotline@epa.gov.

(4) By mail. Send a written request for this information to the following address: TSCA Hotline, Mail Code 7408M, ATTN: Inventory Update Reporting, Office of Pollution Prevention and Toxics, U.S. Environmental Protection Agency, 1200 Pennsylvania Ave., NW., Washington, DC 20460-0001.

[FR Doc. E6-14716 Filed 9-5-06; 8:45 am]

BILLING CODE 6560-50-S